DEPARTMENT OF AGRICULTURE

Office of the Secretary

Notice of the National Agricultural Research, Extension, Education, and Economics Advisory Board Meeting

AGENCY: Research, Education, and Economics, USDA.

ACTION: Notice of meeting.

SUMMARY: In accordance with the Federal Advisory Committee Act, 5 U.S.C. App. 2, the United States Department of Agriculture announces a meeting of the National Agricultural Research, Extension, Education, and Economics Advisory Board.

DATES: The National Agricultural Research, Extension, Education, and Economics Advisory Board will meet March 29-31, 2010.

The public may file written comments before or up to two weeks after the meeting with the contact person identified in this notice.

ADDRESSES: The meeting will take place at the Washington Court Hotel, 525 New Jersey Avenue, NW., Washington, DC 20001. Written comments from the public may be sent to the Contact Person identified in this notice at: The National Agricultural Research, Extension, Education, and Economics Advisory Board; Research, Education, and Economics Advisory Board Office, Room 3901, South Building, United States Department of Agriculture, STOP 0321, 1400 Independence Avenue, SW., Washington, DC 20250-2255.

FOR FURTHER INFORMATION CONTACT: Karen Hunter, Executive Director, National Agricultural Research, Extension, Education, and Economics Advisory Board; telephone: (202) 720-3684; fax: (202) 720-6199; or e-mail: Shirley.morgan@ars.usda.gov.

SUPPLEMENTARY INFORMATION: The entire meeting to include orientation is open to the public. On Monday, March 29, 2010, an orientation session for new members and interested incumbent members will be held from 10:30 a.m.-12 p.m. (noon). The full Advisory Board will convene at 12 p.m. (noon) with introductory remarks by the Chair of the Advisory Board. There will be brief introductions of new Board members, incumbents, and guests followed by general Board business. Comments will be heard from a variety of distinguished leaders and experts, as well as officials and/or leaders from the four agencies in the USDA Research, Education, and Economics mission area. Speakers will provide information for the Board to consider while developing recommendations regarding enhancement of USDA research, extension, education, and economic programs for the protection of U.S. food, fiber, fuel and agricultural systems. USDA officials have been invited to provide brief remarks and welcome the new Board members. On Tuesday, March 30, 2010 a focus session on the topic of Food Security will begin at 8 a.m. and adjourn at 5:30 p.m. On Wednesday, March 31, 2010, the meeting will reconvene at 8 a.m. to continue discussions on Food Security and draft preliminary recommendations. An opportunity for public comment will be offered at the end of each day. The Advisory Board Meeting will adjourn by 12:00 (noon) on Wednesday.

Written comments by attendees or other interested individuals will be welcomed for the public record before and up to two weeks following the Board meeting (by close of business Wednesday, April 14, 2010). All statements will become a part of the official record of the National Agricultural Research, Extension, Education, and Economics Advisory Board and will be kept on file for public review in the Research, Extension, Education, and Economics Advisory Board Office.

Margaret M. Jahn,
Acting, Under Secretary, Research, Education, and Economics.

[FR Doc. 2010-5570 Filed 3-12-10; 8:45 am]

BILLING CODE 3410-03-P